DEPARTMENT OF THE INTERIOR

Fish and Wildlife Service

50 CFR Part 17

[FWS-R5-ES-2012-N038; FXES11130500000D2-123-FF05E00000]

Endangered and Threatened Wildlife and Plants; Initiation of a 5-Year Review of Nine Northeastern Species

AGENCY: Fish and Wildlife Service, Interior.

ACTION: Notice of initiation of reviews; request for information.

SUMMARY: We, the U.S. Fish and Wildlife Service (Service), are initiating 5-year reviews under the Endangered Species Act (Act), as amended, for nine northeastern species. We will review the following species, all listed as endangered under the Act: Maryland darter, Virginia fringed mountain snail, Virginia big-eared bat, Hay's Spring amphipod, Lee County Cave isopod, and Shenandoah salamander. We will also review the following threatened species: Knieskern's beaked-rush, small whorled pogonia, and Virginia sneezeweed. We conduct these reviews to ensure that our classification of each species on the lists of endangered and threatened wildlife and plants is accurate. A 5-year review assesses the best scientific and commercial data available at the time of the review. We are requesting submission of any such information that has become available since the previous 5-year review for each species. Based on review results, we will determine whether we should change the listing status of any of these species.

DATES: To ensure consideration, please send your written information by May 7, 2012. However, we will continue to accept new information about any listed species at any time.

ADDRESSES: For where and how to send information, see “VIII. Contacts” near the end of the SUPPLEMENTARY INFORMATION section.

FOR FURTHER INFORMATION CONTACT: Mary Parkin, by U.S. mail at U.S. Fish and Wildlife Service, Northeast Regional Office, 300 Westgate Center Drive, Hadley, MA 01035; by telephone at 617-417-3331; or by electronic mail at mary_parkin@fws.gov.

SUPPLEMENTARY INFORMATION:

I. Why do we conduct 5-year reviews?

Under the Act (16 U.S.C. 1531 et seq.), we maintain lists of endangered and threatened wildlife and plants (which we refer to collectively as the list) at 50 CFR 17.11 (for animals) and 17.12 (for plants). Section 4(c)(2)(A) of the ESA requires us to review the status of each listed species at least once every 5 years. Then, under section 4(c)(2)(B), we determine whether to remove the species from the list (delist), reclassify it from endangered to threatened, or reclassify it from threatened to endangered. Any change in Federal classification requires a separate rulemaking process.

In classifying a species, we use the following definitions from 50 CFR 424.02:

(A) Species includes any species or subspecies of fish, wildlife, or plant, or any distinct population segment of any species or vertebrate, that interbreeds when mature;

(B) Endangered species means any species that is in danger of extinction throughout all or a significant portion of its range; and

(C) Threatened species means any species that is likely to become an endangered species within the foreseeable future throughout all or a significant portion of its range.

We must support delisting a species by the best scientific and commercial data available, and we only consider delisting if data substantiate that the species is neither endangered nor threatened for one or more of the following reason (50 CFR 424.11 (d)):

(A) The species is extinct;

(B) The species is recovered; or

(C) The original data available when the species was listed, or the interpretation of such data, were in error.

The regulations in 50 CFR 424.21 require that we publish a notice in the Federal Register announcing those species currently under active review.

II. What species are under review?

We are initiating 5-year status reviews of the species in the following table.

Species Under 5-Year Review: Common name | Species Under 5-Year Review: Scientific name | Species Under 5-Year Review: Status | Species Under 5-Year Review: Where listed | Species Under 5-Year Review: Final listing rule publication date and citation
Animals
Maryland darter | Etheostoma sellare | Endangered | U.S.A.; MD | March 11, 1967; 32 FR 4001.
Virginia fringed mountain snail | Polygyriscus virginianus | Endangered | U.S.A.; VA | July 3, 1978; 43 FR 28932.
Virginia big-eared bat | Corynorhinus (=Plecotus) townsendii virginianus | Endangered | U.S.A.; KY, NC, VA, WV | November 30, 1979; 44 FR 69206.
Hay's Spring amphipod | Stygobromus hayi | Endangered | U.S.A.; District of Columbia, MD | February 5, 1982; 47 FR 5425.
Lee County Cave isopod | Lirceus usdagalun | Endangered | U.S.A.; VA | November 20, 1992; 57 FR 54722.
Shenandoah salamander | Plethodon shenandoah | Endangered | U.S.A.; VA | August 18, 1989; 54 FR 34464.
Plants
Knieskern's beaked-rush | Rhynchospora knieskernii | Threatened | U.S.A.; DE, NJ | July 18, 1991; 56 FR 32978.
Small whorled pogonia | Isotria medeoloides | Threatened | U.S.A.; CT , DE, GA, IL, ME, MA, MI, MO, NH, NJ, NY, NC, OH, PA, RI, SC, TN, VA, WV | September 9, 1982; 47 FR 39827.
Virginia sneezeweed | Helenium virginicum | Threatened | U.S.A.; MO, VA | November 3, 1998; 63 FR 59239.

III. What do we consider in our review?

We consider all new information available at the time we conduct a 5-year review. We consider the best scientific and commercial data that have become available since the current listing determination or most recent status review, such as:

(A) Species biology, including but not limited to, population trends, distribution, abundance, demographics, and genetics;

(B) Habitat conditions, including but not limited to, amount, distribution, and suitability;

(C) Conservation measures that have been implemented that benefit the species;

(D) Threat status and trends (see five factors under heading, “How Do We Determine Whether a Species is Endangered or Threatened?”); and

(E) Other new information, data, or corrections, including but not limited to, taxonomic or nomenclatural changes, identification of erroneous information contained in the List, and improved analytical methods.

We specifically request data from any systematic surveys, as well as any studies or analysis of data that may show any of the following:

(A) Population size or trends;

(B) Species biology or ecology;

(C) The effects of current land management on population distribution and abundance;

(D) Current habitat conditions;

(E) Recent conservation measures that have been implemented to benefit the species;

(F) Current distribution of populations;

(G) Evaluation of threats faced by the species in relation to the five listing factors (as defined below and in section 4(a)(1) of the Act); or

(H) The species' status as judged against the definition of endangered or threatened.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or man-made factors affecting its continued existence.

Under section 4(b)(1) of the Act, we must base our assessment of these factors solely on the best scientific and commercial data available.

V. What Could Happen as a Result of Our Review?

For each species under review, if we find new information indicating that a change in classification may be warranted, we may propose a rule that could do one of the following:

(A) Reclassify the species from threatened to endangered (uplist);

(B) Reclassify the species from endangered to threatened (downlist); or

(C) Remove the species from the List (delist).

If we determine that a change in classification is not warranted, then the species will remain on the list under its current status.

VI. Request for New Information

To ensure that a 5-year review is complete and based on the best available scientific and commercial information, we request new information from all sources. See “What Information Do We Consider in Our Review?” for specific criteria. If you submit information, support it with documentation such as maps, bibliographic references, methods used to gather and analyze the data, and/or copies of any pertinent publications, reports, or letters by knowledgeable sources.

Submit your information and materials to the appropriate U.S. Fish and Wildlife Office listed under “VIII., Contacts.”

VII. Public Availability of Information Submitted

Before including your address, phone number, electronic mail address, or other personal identifying information in your submission, you should be aware that you entire submission—including your personal identifying information—may be made publicly available at any time. Although you can request that personal information be withheld from public review, we cannot guarantee that we will be able to do so. Materials received will be available for public inspection, by appointment, during normal business hours at the offices where the information is submitted.

VIII. Contacts

Species | Contact person, phone, e-mail | Contact address
Maryland darter | Andy Moser, (410) 573-4537; e-mail andy_moser@fws.gov | U.S. Fish and Wildlife Service, Chesapeake Bay Field Office, 177 Admiral Cochrane Drive, Annapolis, MD 21401.
Virginia fringed mountain snail | Michael Drummond, (804) 693-6694; e-mail mike_drummond@fws.gov | U.S. Fish and Wildlife Service, Virginia Field Office, 6669 Short Lane, Gloucester, VA 23061.
Virginia big-eared bat | Barbara Douglas, (304) 636-6586; e-mail barbara_douglas@fws.gov | U.S. Fish and Wildlife Service, West Virginia Field Office, 694 Beverly Pike, Elkins, WV 26241.
Hay's Spring amphipod | Andy Moser, (410) 573-4537; e-mail andy_moser@fws.gov | U.S. Fish and Wildlife Service, Chesapeake Bay Field Office, 177 Admiral Cochrane Drive, Annapolis, MD 21401.
Lee County Cave isopod | Shane Hanlon, (276) 623-1233; e-mail shane_hanlon@fws.gov | U.S. Fish and Wildlife Service, Southwest Virginia Field Office, 330 Cummings Street, Abingdon, VA 24210.
Shenandoah salamander | Cindy Schulz, (804) 693-6694; e-mail cindy_schulz@fws.gov | U.S. Fish and Wildlife Service, Virginia Field Office, 6669 Short Lane, Gloucester, VA 23061.
Knieskern's beaked-rush | Annette Scherer, (609) 383-3938; e-mail annette_scherer@fws.gov | U.S. Fish and Wildlife Service, New Jersey Field Office, 927 North Main Street, Bldg D, Pleasantville, NJ 08232.
Small whorled pogonia | Susi von Oettingen, (603) 223-2541; e-mail susi_vonOettingen@fws.gov | U.S. Fish and Wildlife Service, New England Field Office, 70 Commercial Street, Ste. 300, Concord, NH 03301.
Virginia sneezeweed | Cindy Schulz, (804) 693-6694; e-mail cindy_schulz@fws.gov | U.S. Fish and Wildlife Service, Virginia Field Office, 6669 Short Lane, Gloucester, VA 23061.

IX. Authority

We publish this document under the authority of the Endangered Species Act of 1973, as amended (16 U.S.C. 1531 et seq.).

Dated: January 25, 2012.
Wendi Weber,
Regional Director, Northeast Region, U.S. Fish and Wildlife Service.

[FR Doc. 2012-5212 Filed 3-5-12; 8:45 am]

BILLING CODE 4310-55-P